DEPARTMENT OF THE INTERIOR

Fish and Wildlife Service

Information Collection Sent to the Office of Management and Budget (OMB) for Approval Under the Paperwork Reduction Act; 1018-0119; Policy for Evaluation of Conservation Efforts When Making Listing Decisions

AGENCY: Fish and Wildlife Service, Interior.

ACTION: Notice; request for comments.

SUMMARY: We (Fish and Wildlife Service, Service) have sent a request to OMB to renew approval for the collection of information associated with our Policy for Evaluation of Conservation Efforts When Making Listing Decisions (PECE). We use the information that we collect as part of the basis for identifying conservation efforts that can contribute to a decision not to list a species under the Endangered Species Act (ESA) or to list a species as threatened rather than endangered.

DATES: You must submit comments on or before January 17, 2006.

ADDRESSES: Send your comments and suggestions on this information collection renewal to the Desk Officer for the Department of Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, Virginia 22203 (mail); (703) 358-2269 (fax); hope_grey@fws.gov (e-mail).

FOR FURTHER INFORMATION CONTACT: To request a copy of the proposed information collection requirement, related forms, or explanatory material, contact Hope Grey at the addresses above or by phone at (703) 358-2482.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). Currently, we have approval to collect this information under OMB Control Number 1018-0119, which expires on December 31, 2005. We are asking OMB to renew approval for a 3-year term. OMB has up to 60 days to approve or disapprove our request; however, OMB may respond as early as 30 days after our submittal. To ensure consideration, send your comments to OMB by the date listed in the DATES section. We may not conduct or sponsor and a person is not required to respond to a collection of information unless it displays a currently valid OMB control number.

On August 15, 2005, we published in the Federal Register (70 FR 47845) a notice of our intent to request renewal of this information collection authority from OMB. In that notice, we solicited public comments for 60 days, ending on October 14, 2005. We did not receive any comments.

Section 4 of the ESA specifies the process by which we can list species as threatened or endangered. When we consider whether or not to list a species, the ESA requires us to take into account the efforts being made by any State or any political subdivision of a State to protect such species. We also take into account the efforts being made by other entities. States or other entities often formalize conservation efforts in conservation agreements, conservation plans, management plans, or similar documents. The conservation efforts recommended or called for in such documents could prevent some species from becoming so imperiled that they meet the definition of a threatened or endangered species under the ESA.

PECE encourages the development of conservation agreements/plans and provides certainty about the standard that individual conservation efforts contained in an agreement/plan must meet so that we can consider that such efforts contribute to forming a basis for a listing determination. PECE applies to “formalized conservation efforts” that have not been implemented or have been implemented but have not yet demonstrated effectiveness in contributing to the reduction or removal of one or more threats to a species. Under PECE, formalized conservation efforts are defined as conservation efforts (specific actions, activities, or programs designed to eliminate or reduce threats or otherwise improve the status of a species identified in a conservation agreement, conservation plan, management plan, or similar document (68 FR 15100)). The development of such agreements/plans is voluntary and there is no requirement that the individual conservation efforts included in such documents be designed to meet the standard in PECE.

PECE specifies that to consider that a conservation effort contributes to forming a basis for not listing a species or listing a species as threatened rather than endangered, we must find that the effort is sufficiently certain to be implemented and effective so as to have contributed to the elimination or adequate reduction of one or more threats to the species. To gauge whether or not this standard has been met, PECE includes criteria for evaluating the certainty of implementation and the certainty of effectiveness of individual conservation efforts.

One criterion for evaluating the certainty of effectiveness of a conservation effort is that the agreement/plan contains provisions for monitoring and reporting progress on implementation and effectiveness of the effort. Also, if we make a decision not to list a species or to list the species as threatened rather than endangered based in part on the contributions of formalized conservation efforts that were subject to the policy, we must (1) track the status of the effort, including the progress of implementation and effectiveness of the efforts, and (2) if necessary, reevaluate the status of species and consider whether or not initiating the listing process is necessary. The nature and frequency of the monitoring and reporting will vary according to the species addressed, land ownership, specific conservation efforts, expertise of participants, and other factors. Generally monitoring and reporting occurs annually for several years as the conservation efforts are implemented and their effectiveness is evaluated. The information collected through monitoring is invaluable to the Service, the States, and other entities implementing agreements and plans, and to others concerned about the welfare of the species covered by the agreements/plans.

Title: Policy for Evaluation of Conservation Efforts When Making Listing Decisions.

OMB Control Number: 1018-0119.

Form Number: None.

Frequency: Occasional.

Description of Respondents: Federal agencies, States, tribes, local governments, individuals, not-for-profit institutions.

Total Annual Responses: 11 (4 original agreements; 7 monitoring/reporting).

Annual Burden Hours: 13,040 hours (2,000 hours per original agreement; 600 hours per agreement for monitoring; 120 hours per agreement for reporting).

When a State or other entity voluntarily decides to develop a conservation agreement or plan with the specific intent of making listing the subject species unnecessary, the criteria and the standard identified in PECE can be construed as a requirement placed on the development of that agreement/plan, and the entity must satisfy the monitoring and reporting requirements to obtain and retain the desired benefit (e.g., making listing of a species as threatened or endangered unnecessary). Thus, the development of such an agreement/plan with the involvement of the Service and the monitoring and reporting elements are the basis for this information collection. Those agreements/plans developed with the intent of influencing a listing decision and with involvement of the Service constitute an information collection that requires OMB approval under the Paperwork Reduction Act. Estimating the hours associated with developing such a conservation agreement or plan is difficult because:

(1) Development and associated monitoring of conservation efforts are completely voluntary, and we cannot predict who will decide to develop these efforts, how many entities they might involve, or the type and extent of the planning, monitoring, and reporting processes they might use.

(2) We cannot predict which species are certain to become the subjects of conservation efforts, and, therefore, cannot predict the nature and extent of conservation efforts and monitoring that might be included in conservation agreements/plans designed with the intent of influencing a decision regarding listing a species.

(3) Many agreements/plans, such as agency land management plans, are developed to satisfy requirements of other laws or for other purposes, and we cannot predict whether or the extent to which some of these plans may be expanded to attempt to make listing unnecessary.

Consequently, we must base our estimates of the amount of work associated with developing conservation agreements or plans, and monitoring and reporting of conservation efforts, on information from conservation agreements developed in the past. To prepare this estimate we contacted two representatives of entities involved in conservation agreements containing conservation efforts that were subject to PECE and were a key basis for Service determinations that listing the covered species was not necessary. We also reviewed the number of conservation agreements and plans developed since the publication of the final PECE on March 28, 2003 (68 FR 15100), through FY 2005, in which the Service was substantially involved. Of 27 such agreements/plans prepared during that period, 9 were developed with the specific intent of influencing a decision to list species, for an average of 3 to 4 such agreements per year. On average, conservation efforts subject to PECE in one to two agreements/plans per year contributed substantially to determinations that listing species was unnecessary. We expect these averages to continue, based on the number of draft conservation plans/agreements currently in preparation. Thus we estimate that four agreements/plans with the intent of making listing unnecessary will be completed annually. We further estimate that an average of two such agreements/plans will contain conservation efforts that meet the standard in PECE and contribute substantially to a decision that listing a species is unnecessary, and that the States or other entities will carry through with monitoring and reporting the efforts in such agreements in order to keep the covered species off the lists of endangered or threatened species. Monitoring and reporting occurs for a period of years until the efforts have been implemented and demonstrate effectiveness. We estimate that monitoring and reporting will occur for an average of seven agreements annually.

The hour burden estimated for preparation of a conservation agreement/plan varies from approximately 500 hours to 4,000 hours. The variability is related to differences in the size and scope of the areas covered by these plans, the number of entities involved in developing them, and the complexity of the conservation issues involving a given species. We estimate the public reporting burden for the information collection covered by this renewal to average 2,000 hours for developing one agreement with the intent to preclude a listing (one-time burden). We further estimate 600 hours for annual monitoring under one agreement, and 120 hours for one annual report, for a total of 720 hours annually for monitoring and reporting per agreement. We estimate that monitoring and reporting will occur for seven agreements annually. Based on our estimate of four plans prepared per year and seven plans for which monitoring and reporting will occur per year, the total annual burden is estimated at 13,040 hours.

We again invite comments on this information collection renewal on: (1) Whether or not the collection of information is necessary for the proper performance of our management functions involving PECE, including whether or not the information will have practical utility; (2) the accuracy of our estimate of the burden of the collection of information; (3) ways to enhance the quality, utility, and clarity of the information to be collected; and (4) ways to minimize the burden of the collection of information on respondents. The information collections in this program are part of a system of records covered by the Privacy Act (5 U.S.C. 552(a)).

Dated: December 2, 2005.
Hope Grey,
Information Collection Clearance Officer, Fish and Wildlife Service.

[FR Doc. E5-7436 Filed 12-15-05; 8:45 am]

BILLING CODE 4310-55-P